DEPARTMENT OF COMMERCE

International Trade Administration

[A-570-110; C-570-111]

Vertical Metal File Cabinets From the People's Republic of China: Correction to Antidumping Duty and Countervailing Duty Orders

AGENCY: Enforcement and Compliance, International Trade Administration, Department of Commerce.

SUMMARY: The Department of Commerce (Commerce) is correcting the antidumping (AD) and countervailing duty (CVD) orders on certain vertical metal file cabinets (file cabinets) from the People's Republic of China (China).

DATES: Applicable January 22, 2020.

FOR FURTHER INFORMATION CONTACT: Chien-Min Yang, AD/CVD Operations, Office VII, Enforcement and Compliance, International Trade Administration, U.S. Department of Commerce, 1401 Constitution Avenue NW, Washington, DC 20230; telephone: (202) 482-5484.

SUPPLEMENTARY INFORMATION: On December 13, 2019, Commerce published in the Federal Register the AD and CVD orders on file cabinets from China.¹ Pursuant to section 703(d) of the Tariff Act of 1930, as amended (the Act), suspension of liquidation instructions issued pursuant to an affirmative preliminary CVD determination may not remain in effect for more than four months. In addition, pursuant to section 733(d) of the Act, suspension of liquidation instructions issued pursuant to an affirmative preliminary AD determination may not remain in effect for more than four months, except where exporters representing a significant proportion of exports of the subject merchandise request Commerce to extend that four-month period to no more than six months. In the Orders, we erroneously stated that the four-month period, beginning on the date of publication of the Preliminary Determinations,² ended on December 1, 2019.³ However, the last day of the 120-day period, beginning on the date of publication of the Preliminary Determinations, was November 28, 2019.

¹ See Vertical Metal File Cabinets From the People's Republic of China: Antidumping and Countervailing Duty Orders, 84 FR 68121 (December 13, 2019) (Orders). The period of investigation for the AD investigation was October 1, 2018 through March 31, 2019. The period of investigation for the CVD investigation was January 1, 2018 through December 31, 2018.

² See Vertical Metal File Cabinets from the People's Republic of China: Preliminary Determination of Sales at Less-Than-Fair-Value, 83 FR 37618 (August 1, 2019); see also Vertical Metal File Cabinets from the People's Republic of China: Preliminary Affirmative Countervailing Duty Determination, 84 FR 37622 (August 1, 2019) (collectively, Preliminary Determinations).

³ See Orders, 84 FR at 68121-22.

Therefore, unliquidated entries of file cabinets from China entered, or withdrawn from warehouse, for consumption on or after August 1, 2019, the date of publication of the Preliminary Determinations, are subject to the assessment of AD and CVD duties, but such duties will not be assessed on entries occurring after the expiration of the provisional measures period at midnight on the last day, November 28, 2019, and before publication of the ITC's final affirmative injury determination. No other changes have been made to the Orders.

These corrected orders are published in accordance with sections 706(a) and 736(a) of the Act and 19 CFR 351.211(b).

Dated: January 14, 2020.
Jeffrey I. Kessler,
Assistant Secretary for Enforcement and Compliance.

[FR Doc. 2020-00953 Filed 1-21-20; 8:45 am]

BILLING CODE 3510-DS-P